COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by nonprofit agencies employing persons who are blind or have other severe disabilities, and deletes products from the Procurement List previously furnished by such agencies.

DATES: Date added to and deleted from the Procurement List: August 9, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 6/5/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Product(s)

NSN(s)—Product Name(s)

MR 13037—Microwave Bacon Crisper

MR 13039—Microwave Popcorn Popper

MR 13065—Microwave Steamer

MR 13074—Set, Bowls, Glass, Prep, 4 Piece

MR 13075—Set, Mini Grate and Slice

MR 13079—Set, Glass Containers, Smart Seal, 12 Piece

MR 13151—POP 3 Pc Slim Container Set

MR 13152—POP 4 Pc Baking Accessories Set

Mandatory Source of Supply: Cincinnati Association for the Blind, Cincinnati, OH

Contracting Activity: Military Resale-Defense Commissary Agency

NSN(s)—Product Name(s)

MR 10767—Saver, Grapefruit, Includes Shipper 20767

MR 13050—Iced Tea Tumbler, 16 Ounces, Green

MR 13051—Iced Tea Tumbler, 16 Ounces, Pink

Mandatory Source of Supply: Winston-Salem Industries for the Blind, Inc., Winston-Salem, NC

Contracting Activity: Military Resale-Defense Commissary Agency

NSN(s)—Product Name(s)

MR 13032—Shelf Liner, Biodegradable, Clear

Mandatory Source of Supply: LC Industries, Inc., Durham, NC

Contracting Activity: Military Resale-Defense Commissary Agency

NSN(s)—Product Name(s)

MR 11129—Bag, Paper, Lunch, 50 Count

Mandatory Source of Supply: South Texas Lighthouse for the Blind, Corpus Christi, TX

Contracting Activity: Military Resale-Defense Commissary Agency

Deletions

On 6/5/2020, the Committee for Purchase From People Who Are Blind or Severely Disabled published notice of proposed deletions from the Procurement List. This notice is published pursuant to 41 U.S.C. 8503 (a)(2) and 41 CFR 51-2.3.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s)

4220-00-926-9459—Vest, Life Preserver, USN, Yellow, Small

4220-00-926-9461—Cover, Protective, Life Preserver

4220-00-926-9460—Cover, Protective, Life Preserver

4220-00-926-9462—Cover, Protective, Life Preserver

4220-00-926-9464—Cover, Protective, Life Preserver

4220-00-926-9465—Cover, Protective, Life Preserver

4220-00-926-9466—Cover, Protective, Life Preserver

4220-00-926-9467—Cover, Protective, Life Preserver

4220-00-926-9469—Cover, Protective, Life Preserver

4220-00-926-9471—Cover, Protective, Life Preserver

4220-00-926-9472—Cover, Protective, Life Preserver

4220-00-926-9473—Cover, Protective, Life Preserver

4220-00-926-9474—Cover, Protective, Life Preserver

4220-00-926-9475—Cover, Protective, Life Preserver

4220-00-926-9476—Cover, Protective, Life Preserver

4220-00-926-9478—Cover, Protective, Life Preserver

4220-00-926-9479—Cover, Protective, Life Preserver

Mandatory Source of Supply: Mississippi Industries for the Blind, Jackson, MS; Lions Volunteer Blind Industries, Inc., Morristown, TN

Contracting Activity: DLA TROOP SUPPORT, PHILADELPHIA, PA

NSN(s)—Product Name(s)

4220-00-926-9463—Cover, Protective, Life Preserver

4220-00-926-9470—Cover, Protective, Life Preserver

4220-00-926-9477—Cover, Protective, Life Preserver

Mandatory Source of Supply: Lions Volunteer Blind Industries, Inc., Morristown, TN

Contracting Activity: DLA TROOP SUPPORT, PHILADELPHIA, PA

NSN(s)—Product Name(s)

6532-00-299-9629—Trousers, Operating, Surgical, X-Large

6532-00-299-9630—Trousers, Operating, Surgical, Medium

6532-00-299-9631—Trousers, Operating, Surgical, Small

6532-00-299-9628—Trousers, Operating, Surgical, Large

Mandatory Source of Supply: TradeWinds Services, Inc., Merrillville, IN

Contracting Activity: DLA TROOP SUPPORT, PHILADELPHIA, PA

NSN(s)—Product Name(s)

MR 462—Grocery Shopping Tote Bag, Laminated, Winter Club Pack, Winter Scene, Small

MR 464—Grocery Shopping Tote Bag, Laminated, Winter Club Pack, Spring Scene, Small

Mandatory Source of Supply: Industries for the Blind and Visually Impaired, Inc., West Allis, WI

Contracting Activity: Military Resale-Defense Commissary Agency

Michael R. Jurkowski,
Deputy Director, Business & PL Operations.

[FR Doc. 2020-14898 Filed 7-9-20; 8:45 am]

BILLING CODE 6353-01-P